DEPARTMENT OF DEFENSE

Office of the Secretary

Defense Task Force on Sexual Harassment and Violence at the Military Service Academies; Notice of Meeting

AGENCY: Department of Defense.

ACTION: Notice; Defense Task Force on Sexual Harassment and Violence at the Military Service Academies—open meeting.

SUMMARY: Pursuant to the Federal Advisory Committee Act (FACA), Public Law 96-463, notice is hereby given that the Defense Task Force on Sexual Harassment and Violence at the Military Academies will hold an open meeting at Loews Annapolis Hotel, 126 West Street, Annapolis, MD 21401, on May 3, 2005, from 8:30 a.m. to 11:30 a.m.

Purpose: The Task Force will meet on May 3, 2005, from 8:30 a.m. to 11:30 a.m., and this session will be open to the public, subject to the availability of space. In keeping with the spirit of Federal Advisory Committee Act, it is the desire of the Task Force to provide the public with an opportunity to ask questions of the Task Force or to make comment regarding the current work of the Task Force. The first hour of the meeting will be designated for any public comment. During the final two hours, the Task Force as a whole will discuss findings and recommendations regarding victims' rights and services, accountability, training, and community collaboration at the U.S. Military and Naval Academies. Any interested citizens are encouraged to attend.

DATES: May 3, 2005, 8:30 a.m.-11:30 a.m.

Location: Loews Annapolis Hotel, 126 West Street, Annapolis, Maryland 21401.

FOR FURTHER INFORMATION CONTACT: Any member of the public wishing further information concerning this meeting or wishing to submit comments must contact: Mr. William Harkey, Public Affairs Officer, Task Force on Sexual Harassment and Violence at the Military Service Academies, 2850 Eisenhower Ave, Suite 100, Alexandria, Virginia 22314, Telephone: (703) 325-6640, DSN# 221-6640, Fax: (703) 325-6710/6711, william.harkey.CTR@wso.whs.mil.

Interested persons may submit a written statement for consideration by the Task Force and make an oral presentation of such. Persons desiring to make an oral presentation or submit a written statement to the Task Force must notify the point of contact listed above no later than 5 p.m., April 27, 2005. Oral presentations by members of the public will be permitted only on May 3, 2005, from 8:30 a.m. until 9:30 a.m. before the full Task Force. Presentations will be limited to ten minutes each. Number of oral presentations to be made will depend on the number of requests received from members of the public and the time allotted. Each person desiring to make an oral presentation must provide the point of contact listed above with one (1) written copy of the presentation by 5 p.m., April 27, 2005 and bring 15 written copies of any material that is intended for distribution at the meeting. Persons submitting a written statement must submit 15 written copies of the statement to the Task Force staff by 5 p.m. on April 27, 2005.

General Information: Additional information concerning the Defense Task Force on Sexual Harassment and Violence at The Military Service Academies, its structure, function, and composition, may be found on the DTFSH and VTMA Web site (http://www.dtic.mil/dtfs).

Dated: April 14, 2005.
Jeannette Owings-Ballard,
OSD Federal Register Liaison Officer, Department of Defense.

[FR Doc. 05-7809 Filed 4-18-05; 8:45 am]

BILLING CODE 5001-06-M